POSTAL REGULATORY COMMISSION

[Docket Nos. PI2016-1; Order No. 2791]

Public Inquiry on Service Performance Measurement Data

AGENCY: Postal Regulatory Commission.

ACTION: Notice.

SUMMARY: The Commission is establishing a public inquiry to receive comments regarding the Postal Service's service performance measurement data. This notice informs the public of this proceeding, invites public comment, and takes other administrative steps.

DATES: Comments are due: December 14, 2015. Reply Comments are due: January 11, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

I. Introduction

II. Background

III. Comments Requested

IV. Public Representative

V. Ordering Paragraphs

I. Introduction

The Commission establishes Docket No. PI2016-1 to invite public comments on potential issues related to the quality and completeness of service performance data measured by the Postal Service.

II. Background

On September 30, 2015, Government Accountability Office (GAO) published a report titled Actions Needed to Make Delivery Performance Information More Complete, Useful, and Transparent. U.S. Gov. Accountability Office, GAO-15-756, U.S. Postal Service: Actions Needed to Make Delivery Performance Information More Complete, Useful, and Transparent (2015) (Report). The Report was publicly released on October 5, 2015.

In the Report, GAO recommended that the Commission hold a public proceeding involving the Postal Service, the mailing industry, and other interested parties to address how the Postal Service may improve the completeness of its service performance data. Id. at 31. The instant docket responds to that recommendation.

GAO separately recommended that the Commission provide service performance data and analyses in a more readily available format. See id. at 26, 31. In response, the Commission recently updated its Web site to allow instantaneous access to service performance related reports and dockets under a tab titled Reports/Data Service Reports. This Web site update will make it easier for prospective commenters to access background information related to the instant docket.

III. Comments Requested

The Commission invites public comments on potential issues related to the quality and completeness of service performance data provided by the Postal Service. Specifically, the Commission is interested in the following:

1. Describe any potential deficiencies with respect to the accuracy, reliability, and representativeness of the current service performance measurement data. If data are limited in a specific area, discuss how the Postal Service could improve that data.

2. The Report states the Postal Service's “measurement of on-time delivery performance has expanded greatly over the past 9 years, but remains incomplete because only about 55 percent of market-dominant mail volume is currently included in measurement.” Id. at 11 (footnote omitted). The Commission, however, has not concluded that the percentage of mail in measurement should be the primary determinant of accurate, reliable, or representative service performance data, instead focusing on sampling fractions, confidence intervals, and margins of error at the district level. Id. at 52-53. The Report asserts that for mail measured using a census-type approach, it is necessary to assess non-sampling error, which “would require determining whether the mail not included in measurement systematically differed from the mail included in the measurement, particularly regarding characteristics associated with on-time delivery.” Id. at 35.

a. Accounting for product and service standard, discuss any systematic differences between mail in measurement and mail not in measurement that are likely to impact service performance.

b. Discuss whether and how non-sampling error might have a material impact on service performance results and actions the Postal Service could take to minimize non-sampling error.

3. The Report suggests that “[t]he main causes for incomplete measurement of bulk mail can be broadly grouped into two different reasons: (1) Mailers not applying a unique Intelligent Mail barcode [IMb] to each mail piece to enable tracking (trackable barcodes) or (2) lack of needed information.” Id. at 14-15 (footnote omitted).

a. Discuss specific actions the Postal Service should take to increase participation in the full-service IMb program.

b. Discuss specific actions the Postal Service needs to take to decrease the amount of mail excluded from measurement.

Comments are due no later than December 14, 2015. Reply comments are due no later than January 11, 2016.

IV. Public Representative

Section 505 of title 39 requires designation of an officer of the Commission (Public Representative) in all public proceedings to represent the interests of the general public. The Commission hereby designates Richard A. Oliver as Public Representative in this proceeding.

V. Ordering Paragraphs

It is ordered:

1. The Commission establishes Docket No. PI2016-1 to invite public comments on potential issues related to the quality and completeness of service performance data measured by the Postal Service.

2. Comments are due no later than December 14, 2015.

3. Reply comments are due no later than January 11, 2016.

4. Pursuant to 39 U.S.C. 505, Richard A. Oliver is appointed to serve as an officer of the Commission to represent the interests of the general public in this proceeding (Public Representative).

5. The Secretary shall arrange for publication of this order in the Federal Register.

By the Commission.
Stacy L. Ruble,
Secretary.

[FR Doc. 2015-28054 Filed 11-3-15; 8:45 am]

BILLING CODE 7710-FW-P